DEPARTMENT OF TRANSPORTATION

National Highway Traffic Safety Administration

[Docket No. NHTSA 2005-23170; Notice 2]

Kumho Tire Co., Inc., Grant of Petition for Decision of Inconsequential Noncompliance

Kumho Tire Co., Inc. (Kumho) has determined that certain tires that it produced in 2005 do not comply with S4.3.4 of 49 CFR 571.109, Federal Motor Vehicle Safety Standard (FMVSS) No. 109, “New pneumatic tires.” Pursuant to 49 U.S.C. 30118(d) and 30120(h), Kumho has petitioned for a determination that this noncompliance is inconsequential to motor vehicle safety and has filed an appropriate report pursuant to 49 CFR Part 573, “Defect and Noncompliance Reports.” Notice of receipt of a petition was published, with a 30-day comment period, on December 9, 2005, in the Federal Register (70 FR 73325). NHTSA received one comment.

Affected are a total of approximately 197,147 temporary spare tires produced in February 2005. S4.3.4 of FMVSS No. 109 requires that each tire have permanently molded onto the sidewall the maximum inflation pressure in kPa followed in parentheses by the equivalent inflation pressure in psi, and the maximum load marking in kilograms followed in parentheses by the equivalent load rating in pounds. The affected tires have the maximum inflation pressure marking only in psi and not in kPa, and have reversed the maximum load markings so that the load rating in pounds is followed in parentheses by the equivalent load rating in kilograms. Kumho has corrected the problem that caused these errors so that they will not be repeated in future production.

Kumho believes that the noncompliance is inconsequential to motor vehicle safety and that no corrective action is warranted. Kumho states that the noncompliance “will have no impact on the operational performance or safety of vehicles on which the tires are used.” Kumho says that the tires meet or exceed all FMVSS No. 109 performance requirements.

One comment was received from a private individual. The comment concerns the danger presented by not having maximum “load pressures” on a tire. As explained above, the affected tires do have correct information on maximum load markings (although the information on pounds and kilograms is in reverse order) and maximum inflation pressure (although expressed only in psi). Therefore, these tires do not present the danger referred to in the comment, and the comment provides no basis on which the petition should be denied.

NHTSA agrees with Kumho that the noncompliance is inconsequential to motor vehicle safety. The correct English unit information required by FMVSS No. 109 is provided and therefore is likely to achieve the safety purposes of the requirement. All other informational markings are present, and the tires meet or exceed all of the performance requirements of FMVSS No. 109.

In consideration of the foregoing, NHTSA has decided that the petitioner has met its burden of persuasion that the noncompliance described is inconsequential to motor vehicle safety. Accordingly, Kumho's petition is granted and the petitioner is exempted from the obligation of providing notification of, and a remedy for, the noncompliance.

Authority: (49 U.S.C. 30118, 30120; delegations of authority at CFR 1.50 and 501.8).

Issued on: January 31, 2006.
Daniel C. Smith,
Associate Administrator for Enforcement.

[FR Doc. E6-1539 Filed 2-3-06; 8:45 am]

BILLING CODE 4910-59-P